DEPARTMENT OF COMMERCE

Census Bureau

Agency Information Collection Activities; Submission to the Office of Management and Budget (OMB) for Review and Approval; Comment Request; High-Frequency Surveys Program/Household Pulse Survey

On January 2, 2024, the Department of Commerce received clearance from the Office of Management and Budget (OMB) in accordance with the Paperwork Reduction Act of 1995 to conduct Phase 4.0 of the Household Pulse Survey (OMB No. 0607-1029, Exp. 01/31/27). The Department is committed to ensuring that the data collected by the Household Pulse Survey continue to meet information needs as they may evolve. This notice serves to inform of the Department's intent to request clearance from OMB to make some revisions to the Household Pulse Survey questionnaire. To ensure that the data collected by the Household Pulse Survey continue to meet information needs as they evolve over the course of the pandemic, the Department submits the following Request for Revision to an Existing Collection for a revised Phase 4.1 questionnaire to the Office of Management and Budget (OMB) for review and clearance in accordance with the Paperwork Reduction Act of 1995, on or after the date of publication of this notice.

Phase 4.1 includes new questions on inclusion in the arts as well as reinstated Medicaid and Unemployment Insurance items. There are also revisions to response options for the long COVID duration and food benefit receipt questions.

It is the Department's intention to commence data collection using the revised instrument on or about April 2, 2024. We invite the general public and other Federal agencies to comment on proposed, and continuing information collections, which helps us assess the impact of our information collection requirements and minimize the public's reporting burden. Public comments were previously requested via the Federal Register on October 31, 2023 (OMB No. 0607-1029) during a 30-day comment period. This notice allows for an additional 30 days for public comments.

Agency: U.S. Census Bureau, Department of Commerce.

Title: High Frequency Surveys Program/Household Pulse Survey.

OMB Control Number: 0607-1029.

Form Number(s): None.

Type of Request: Regular submission, Request for a Revision of a Currently Approved Collection.

Number of Respondents: 264,600.

Average Hours per Response: .333 (20 minutes).

Burden Hours: 88,112.

Needs and Uses: The High-Frequency Surveys Program was established as a natural progression from the creation of the Household Pulse Survey. The Census Bureau developed the Household Pulse Survey to produce near real-time data in a time of urgent and acute need to inform federal and state action in response to the Covid-19 pandemic. Changes in the measures over time provided insight into individuals' experiences on social and economic dimensions during the period of the pandemic. It has evolved to include content on other emergent social and economic issues facing households and is designed to supplement the federal statistical system's traditional benchmark data products with a new data source that provides relevant and timely information based on a high-quality sample frame, data integration, and cooperative expertise.

Affected Public: Households.

Frequency: Households will be selected once to participate in a 20-minute survey.

Respondent's Obligation: Voluntary.

Legal Authority: Title 13, United States Code, Sections 8(b), 182 and 193.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering the title of the collection.

Sheleen Dumas,
Department PRA Clearance Officer, Office of the Under Secretary for Economic Affairs, Commerce Department.

[FR Doc. 2024-03188 Filed 2-14-24; 8:45 am]

BILLING CODE 3510-07-P